DEPARTMENT OF AGRICULTURE

Submission for OMB Review; Comment Request

July 6, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 9, 2021 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: APHIS Student Outreach Program.

OMB Control Number: 0579-0362.

Summary of Collection: Title VI of the Civil Rights Act of 1964—Nondiscrimination in Federally Assisted programs, established Special emphasis Programs throughout the Federal Government. The Animal and Plant Health Inspection Service's (APHIS') Student Outreach Program is designed to help students learn about careers in animal science, veterinary medicine, plant pathology, and agribusiness. The program allows participants to live on college campuses and learn about agricultural science and agribusiness from university professors, practicing veterinarians, and professionals working for the U.S. Government.

The Student Outreach Program is designed to enrich students' lives while they are still in their formative years. APHIS' investment in the Student Outreach Program not only exposes students to careers in APHIS, it also gives APHIS' employees the opportunity to meet and invest in APHIS' future workforce. Students chosen to participate in the Student Outreach Program will gain experience through hands-on labs, workshops, and field trips. Students will also participate in character and teambuilding activities and diversity workshops. Two programs currently in the Student Outreach Program are AgDiscovery and Safeguarding Natural Heritage Program: Strengthening Navajo Youth Connections to the Land.

Need and Use of the Information: To participate in these programs, applicants (students) must submit essays, letters of recommendation, and application packages. These applications are reviewed and rated by officials to select the program participants. In addition, cooperative agreements are used to facilitate the partnerships between APHIS and the participating universities to carry out these programs.

Description of Respondents: Individuals or households, public and private universities, and state government.

Number of Respondents: 1,126.

Frequency of Responses: Reporting.

Total Burden Hours: 6,330.

Ruth Brown,
Departmental Information Collection Clearance Officer.

[FR Doc. 2021-14672 Filed 7-8-21; 8:45 am]

BILLING CODE 3410-34-P